DEPARTMENT OF STATE

[Public Notice 6900]

Termination of Ineligible Status and Statutory Debarment Pursuant to Section 38(g)(4) of the Arms Export Control Act and Section 127.7 of the International Traffic in Arms Regulations for ITT Corporation

ACTION: Notice.

SUMMARY: Notice is hereby given that the Department of State has terminated the ineligible status and statutory debarment of ITT Corporation, pursuant to section 38(g)(4) of the Arms Export Control Act (AECA) (22 U.S.C. 2778) and section 127.7 of the International Traffic in Arms Regulations (ITAR).

DATES: Effective Date: February 4, 2010.

FOR FURTHER INFORMATION CONTACT: Lisa V. Studtmann, Director, Office of Defense Trade Controls Compliance, Directorate of Defense Trade Controls, Bureau of Political-Military Affairs, Department of State (202) 663-2477.

SUPPLEMENTARY INFORMATION: Section 38(g)(4) of the AECA and section 127.11 of the ITAR prohibit the issuance of export licenses or other approvals to persons if those persons, or any party to the export, have been convicted of violating the AECA and certain other U.S. criminal statutes enumerated at section 38(g)(1) of the AECA and section 120.27 of the ITAR. Such individuals are considered ineligible in accordance with section 120.1 of the ITAR. Also, persons convicted of violating the AECA are subject to statutory debarment under section 127.7 of the ITAR.

In March 2007, ITT Corporation pleaded guilty to violating the AECA (U.S. District Court, Western District of Virginia, Case #7:07-cr-00022-sgw). Based on this plea, ITT Corporation was ineligible in accordance with section 120.1 of the ITAR and was statutorily debarred pursuant to section 127.7 of the ITAR. After a full review of the circumstances, finding that appropriate steps were taken to mitigate any law enforcement concerns, the Department decided to except out all ITT business units but the culpable ITT entity responsible for the violations resulting in the aforementioned plea, ITT-Night Vision Division. ITT-Night Vision Division was thus prohibited from participating directly or indirectly in exports of defense articles and defense services. Notice of debarment was published in the Federal Register (72 Federal Register 18310, April 11, 2007). Subsequently, in December 2007 ITT Corporation entered into a consent agreement with the State Department which detailed penalties and remedial compliance measures to be completed in order to be considered for reinstatement following a minimum period of one year debarment.

In accordance with section 38(g)(4) of the AECA and section 127.7 of the ITAR, the ineligible status and statutory debarment may be terminated after consultation with other appropriate U.S. agencies, after a thorough review of the circumstances surrounding the conviction, and a finding that appropriate steps have been taken to mitigate any law enforcement concerns. The Department of State has reviewed the circumstances and consulted with other appropriate U.S. agencies, and has determined that ITT Corporation has taken appropriate steps to address the causes of the violations and to mitigate any law enforcement concerns. Therefore, in accordance with section 38(g)(4) of the AECA and section 127.7 of the ITAR, ITT Corporation is no longer ineligible and the statutory debarment is rescinded, effective February 4, 2010.

Dated: February 4, 2010.
Andrew J. Shapiro,
Assistant Secretary, Bureau of Political-Military Affairs, Department of State.

[FR Doc. 2010-3413 Filed 2-19-10; 8:45 am]

BILLING CODE 4710-25-P